DEPARTMENT OF ENERGY

Federal Energy Regulatory Commission

Combined Notice of Filings #1

Take notice that the Commission received the following electric rate filings:

Docket Numbers: ER12-1260-013; ER13-1793-012.

Applicants: Stephentown Spindle, LLC, Hazle Spindle, LLC.

Description: Notice of Non-Material Change in Status of Stephentown Spindle, LLC, et al.

Filed Date: 5/30/18.

Accession Number: 20180530-5286.

Comments Due: 5 p.m. ET 6/20/18.

Docket Numbers: ER18-1343-001.

Applicants: Carolina Solar Power, LLC.

Description: Tariff Amendment: Supplement to Application and MBR Tariff to be effective 6/11/2018.

Filed Date: 5/30/18.

Accession Number: 20180530-5274.

Comments Due: 5 p.m. ET 6/11/18.

Docket Numbers: ER18-1404-000.

Applicants: NS Power Energy Marketing Inc.

Description: Amendment to April 20, 2018 NS Power Energy Marketing Inc.tariff filing.

Filed Date: 5/30/18.

Accession Number: 20180530-5197.

Comments Due: 5 p.m. ET 6/20/18.

Docket Numbers: ER18-1696-000.

Applicants: Alabama Power Company.

Description: § 205(d) Rate Filing: Oglethorpe (Murray) IA Amendment Filing to be effective 5/15/2018.

Filed Date: 5/30/18.

Accession Number: 20180530-5245.

Comments Due: 5 p.m. ET 6/20/18.

Docket Numbers: ER18-1697-000.

Applicants: Louisville Gas and Electric Company.

Description: § 205(d) Rate Filing: KyMEA Telecom Work Reimbursement Agreement Service Agmt 20 to be effective 5/31/2018.

Filed Date: 5/30/18.

Accession Number: 20180530-5249.

Comments Due: 5 p.m. ET 6/20/18.

Docket Numbers: ER18-1698-000.

Applicants: Midcontinent Independent System Operator, Inc., Ameren Illinois Company.

Description: § 205(d) Rate Filing: 2018-05-30_SA 2037 Ameren-Wabash Valley (Citizens) 3rd Rev WDS Agreement to be effective 5/1/2018.

Filed Date: 5/30/18.

Accession Number: 20180530-5270.

Comments Due: 5 p.m. ET 6/20/18.

Docket Numbers: ER18-1699-000.

Applicants: California Independent System Operator Corporation.

Description: Compliance filing: 2018-05-30 Petition for Limited Tariff Waiver re Demand Response Resources to be effective N/A.

Filed Date: 5/30/18.

Accession Number: 20180530-5272.

Comments Due: 5 p.m. ET 6/20/18.

Docket Numbers: ER18-1700-000.

Applicants: AEP Generation Resources Inc.

Description: § 205(d) Rate Filing: Reactive Supply and Voltage Control Cardinal & Conesville to be effective 6/1/2018.

Filed Date: 5/31/18.

Accession Number: 20180531-5082.

Comments Due: 5 p.m. ET 6/21/18.

Docket Numbers: ER18-1701-000.

Applicants: Southwest Power Pool, Inc.

Description: § 205(d) Rate Filing: 1628R12 Western Farmers Electric Cooperative NITSA NOA to be effective 5/1/2018.

Filed Date: 5/31/18.

Accession Number: 20180531-5086.

Comments Due: 5 p.m. ET 6/21/18.

Docket Numbers: ER18-1702-000.

Applicants: Southwest Power Pool, Inc.

Description: § 205(d) Rate Filing: 1148R24 American Electric Power NITSA and NOA to be effective 5/1/2018.

Filed Date: 5/31/18.

Accession Number: 20180531-5102.

Comments Due: 5 p.m. ET 6/21/18.

Docket Numbers: ER18-1703-000.

Applicants: Entergy Louisiana, LLC, Entergy Arkansas, Inc., Entergy Mississippi, Inc., Entergy New Orleans, LLC, Entergy Texas, Inc.

Description: § 205(d) Rate Filing: Entergy OpCos Reactive Power Update to be effective 6/1/2018.

Filed Date: 5/31/18.

Accession Number: 20180531-5116.

Comments Due: 5 p.m. ET 6/21/18.

Take notice that the Commission received the following foreign utility company status filings:

Docket Numbers: FC18-5-000.

Applicants: Enbridge Rampion UK Ltd.

Description: Notice Of Self Certification of Foreign Utility Company Status of Enbridge Rampion UK Ltd.

Filed Date: 5/30/18.

Accession Number: 20180530-5289.

Comments Due: 5 p.m. ET 6/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 31, 2018.
Nathaniel J. Davis, Sr.,
Deputy Secretary.

[FR Doc. 2018-12107 Filed 6-5-18; 8:45 am]

BILLING CODE 6717-01-P